FEDERAL MARITIME COMMISSION

46 CFR Parts 502 and 515

[Docket No. 19-04]

RIN 3072-AC75

Hearing Procedures Governing the Denial, Revocation, or Suspension of an OTI License

Correction

In proposed rule document 2019-18742 beginning on page 45934 in the issue of Tuesday, September 3, 2019, make the following correction:

The heading should read as set forth above.

[FR Doc. C1-2019-18742 Filed 9-13-19; 8:45 am]

BILLING CODE 1301-00-D